ELECTION ASSISTANCE COMMISSION

Sunshine Act Notice

AGENCY: United States Election Assistance Commission (EAC).

ACTION: Notice of Public Meeting Roundtable Discussion.

DATE & TIME Thursday, March 27, 2008, 9 a.m.-2 p.m. (EST).

PLACE: Kellogg Conference Center, Gallaudet University, 800 Florida Ave., NE., Washington, DC 20002, (202) 651-6000.

AGENDA: The Commission will host a voting systems testing laboratory roundtable discussion regarding the Technical Guidelines Development Committee's (TGDC) recommended voluntary voting system guidelines (VVSG).The discussion will be focused upon the following topics: (1) New research, technology, or methods in the areas of accessibility and usability that can serve as a basis of the discussion; (2) Overarching usability and/or disability concerns with voting systems; (3) Does the current recommended guidelines allow for independent participation by individuals with disabilities; (4) How to best qualify people to conduct usability and accessibility testing: (5) The possible benefits and drawbacks of component testing and certification; (6) Addressing cognitive disabilities in the standards; (7) Possible ways to improve communication between voting system manufacturers/developers and usability and accessibility experts; (8) The strengths and weaknesses of the proposed usability benchmarks in the proposed standards.

This meeting will be open to the public.

PERSON TO CONTACT FOR INFORMATION: Matthew Masterson, Telephone: (202) 566-3100.

Thomas R. Wilkey,
Executive Director, U.S. Election Assistance Commission.

[FR Doc. 08-986 Filed 3-4-08; 4:20 pm]

BILLING CODE 6820-KF-M